DEPARTMENT OF THE INTERIOR

Fish and Wildlife Service

50 CFR Part 17

RIN 1018-AI 11

Endangered and Threatened Wildlife and Plants; Extension of Final Decision and Re-opening of Comment Period on Proposed Rule to List Beluga Sturgeon (Huso huso) as Endangered

AGENCY: Fish and Wildlife Service, Interior.

ACTION: Proposed rule; 6-month extension of final decision and re-opening of comment period.

SUMMARY: We, the Fish and Wildlife Service (Service), announce a 6-month extension for a final decision and re-opening of the comment period on the proposed rule to list beluga sturgeon (Huso huso) as endangered. This action is required to allow for public review of, and comment on, a report that was recently received by the Division of Scientific Authority that provides significant new information about the status of Caspian Sea beluga sturgeon stocks.

DATES: Comments and information may be submitted through September 2, 2003. A final decision on the proposal will be made by January 31, 2004.

ADDRESSES: Comments, information, and questions should be submitted to the Chief, Division of Scientific Authority; by mail, U.S. Fish and Wildlife Service, 4401 North Fairfax Drive, Room 750; Arlington, Virginia 22203; by fax, 703-358-2276; or by e-mail, ScientificAuthority@fws.gov. Comments will be available for public inspection, by appointment, from 8 a.m. to 4 p.m., Monday through Friday, at this address.

FOR FURTHER INFORMATION CONTACT: Robert R. Gabel, Chief, Division of Scientific Authority, at the above address (telephone, 703-358-1708).

SUPPLEMENTARY INFORMATION: On December 18, 2000, we received a petition to list the beluga sturgeon (Huso huso) as endangered under the Endangered Species Act of 1973. In the Federal Register of June 20, 2002 (67 FR 41918), we published concurrent 90-day and 12-month findings on the petition. The 90-day finding stated that the petition presented substantial information indicating the requested action may be warranted. The 12-month finding stated the petitioned action is warranted. Subsequently, in the Federal Register of July 31, 2002 (67 FR 49657), we published a proposed rule to list beluga sturgeon as endangered. In the notice, we requested public comments and information by October 29, 2002, and we stated that requests for a public hearing were to be received by September 16, 2002. The Division of Scientific Authority (DSA) received four requests for a public hearing. To accommodate the requests, we published a notice in the Federal Register on November 6, 2002 (67 FR 67586), of a public hearing to take place December 5, 2002. With that notice, we extended the public comment period through December 28, 2002, to allow for submission of comments during, and 15 days after, the public hearing.

On March 11, 2003, we received a new document that may have major relevance to this decision: “Report on Results of Complex Interstate All-Caspian Sea Expedition on the Assess[ment] of Sturgeon Species Stocks” from the Secretariat of the Convention on International Trade in Endangered Species of Wild Fauna and Flora (CITES). The report summarizes the 2002 sturgeon stock-assessment survey for the Caspian Sea. The Secretariat's report contains substantial information that must be considered in our deliberations and should be made available to the public.

In an effort to address Caspian Sea sturgeon conservation issues, the so-called “Paris agreement” was developed during the 45th meeting of the CITES Standing Committee (Paris, June 2001). An important provision of the agreement was implementation of annual Caspian Sea sturgeon stock-assessment surveys that were to include mandatory reports. The report submitted by the CITES Secretariat contains the results of the 2002 sturgeon stock-assessment survey. All Caspian Sea range nations (except the Islamic Republic of Iran) participated in the 2002 sturgeon stock-assessment survey. Our review of the 2002 survey report indicates that survey parameters have been substantially broadened and the scope of data collection efforts has improved considerably since completion of the initial survey mandated by the Paris agreement in 2001. The current report provides new information regarding changes in beluga sturgeon feeding habits, expanded toxicological studies, and increased stock abundance estimates that were extrapolated from the most recent raw data.

To consider this new information, and any comments thereon, the Service has decided to extend the publication of a final rule from July 31, 2003, to January 31, 2004. We will also re-open the comment period until [the date specified above in DATES], and will provide copies of the indicated document upon request. All comments and information received will be considered in making a final decision on the proposal to list beluga sturgeon as endangered, and will be included in the administrative record.

Authority: Endangered Species Act of 1973 (16 U.S.C. 1531 et seq.).

Dated: June 11, 2003.
Marshall P. Jones, Jr.,
Deputy Director, Fish and Wildlife Service.

[FR Doc. 03-16724 Filed 7-1-03; 8:45 am]

BILLING CODE 4310-55-P